DEPARTMENT OF AGRICULTURE

Forest Service

Shasta-Trinity National Forest National Recreation Area

AGENCY: Forest Service, USDA.

ACTION: Notice of meeting.

SUMMARY: The Shasta-Trinity National Forest National Recreation Area will meet at the Redding Convention Center in Redding California on March 5, 2005. The purpose of this meeting is to discuss changes to the Management Guide of the Shasta-Trinity National Recreation Area. Topics include; reclassification of Recreation Occupancy Vehicles (ROV) based on size rather than amenities, reclassification of ROV permits to “tenure and provisional” and expanding the spectrum of services on Shasta Lake.

The meeting is open to the public. A forum for public input will be provided and individuals will have the opportunity to share their comments with the Shasta-Trinity National Forest National Recreation Area.

DATES: March 5, 2005.

ADDRESSES: Redding Convention Center, 700 auditorium Drive, Redding, California 96001.

FOR FURTHER INFORMATION CONTACT: Michael R. Odle, Asst. Public Affairs Officer.

SUPPLEMENTARY INFORMATION: The meeting is open to the public. Public input sessions will be provided and individuals will have the opportunity to share their comments with the Shasta-Trinity National Forest National Recreation Area.

Dated: February 18, 2005.
J. Sharon Heywood,
Forest Supervisor.

[FR Doc. 05-3745 Filed 2-25-05; 8:45 am]

BILLING CODE 4310-11-M